DEPARTMENT OF TRANSPORTATION

Federal Aviation Administration

14 CFR Part 39

[Docket No. FAA-2012-0880; Directorate Identifier 2012-CE-004-AD]

RIN 2120-AA64

Airworthiness Directives; Cessna Aircraft Company Airplanes

AGENCY: Federal Aviation Administration (FAA), DOT.

ACTION: Supplemental notice of proposed rulemaking (NPRM); reopening of comment period.

SUMMARY: We are revising an earlier proposed airworthiness directive (AD) for certain Cessna Aircraft Company (Cessna) Model 525 airplanes equipped with certain part number (P/N) air conditioning (A/C) compressor motors. That NPRM proposed to require inspection of the number of hours on the A/C compressor hour meter, inspection of the logbook, and replacement of the brushes on certain P/N A/C compressor motors or deactivation of the A/C system until replacement of the brushes and also require reporting of aircraft information related to the replacement of the brushes. That NPRM was prompted by reports of smoke and/or fire in the tailcone caused by brushes wearing beyond their limits on the A/C motor. This action revises that NPRM by providing correct steps for deactivation of the A/C compressor motor. We are proposing this supplemental NPRM to correct the unsafe condition on these products. Since these actions impose an additional burden over that proposed in the NPRM, we are reopening the comment period to allow the public the chance to comment on these proposed changes.

DATES: We must receive comments on this supplemental NPRM by January 22, 2013.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Christine Abraham, Aerospace Engineer, Wichita Aircraft Certification Office, FAA, 1801 Airport Road, Room 100, Wichita, Kansas 67209; phone: (316) 946-4165; fax: (316) 946-4107; email: WICHITA-COS@FAA.GOV.

SUPPLEMENTARY INFORMATION:

Comments Invited

We invite you to send any written relevant data, views, or arguments about this proposed AD. Send your comments to an address listed under the ADDRESSES section. Include “Docket No. FAA-2012-0880; Directorate Identifier 2012-CE-004-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We issued an NPRM to amend 14 CFR part 39 to include an AD that would apply to certain Cessna Airplane Company Model 525 airplanes equipped with certain P/N A/C compressor motors. That NPRM published in the Federal Register on August 22, 2012 (77 FR 50644). That NPRM proposed to require inspection of the number of hours on the A/C compressor hour meter, inspection of the logbook, and replacement of the brushes on certain P/N A/C compressor motors or deactivation of the A/C system until replacement of the brushes and also require reporting of aircraft information related to the replacement of the brushes.

Actions Since Previous NPRM Was Issued

Since we issued the previous NPRM (77 FR 50644, August 22, 2012), we identified revised steps for deactivation of the A/C compressor motor.

Comments

We gave the public the opportunity to comment on the previous NPRM (77 FR 50644, August 22, 2012). The following presents the comments received on the NPRM and the FAA's response to each comment.

Request Task State Current Maintenance Manual Revision or Following Revision 23 or Greater

Timothy Garroutte requested the FAA state current manual revision or following revision 23 or greater instead of using a specific revision of the maintenance manual. Garroutte reasoned that using an exact manual revision number and date in the AD will cause issues in the future because the manual will be revised again with a new date. If a specific revision is identified in the AD, the airplane mechanic will need to call Cessna Aircraft Company or the FAA to figure out what to do once the manual gets a revision higher than 23.

We disagree with the request to state current manual revision or following revision 23 or greater. The Airworthiness Directives Manual, FAA-IR-M-8040.1 C, dated May 17, 2010, (http://rgl.faa.gov/Regulatory_and_Guidance_Library/rgOrders.nsf/0/66DDD8E1D2E95DB3862577270062AABD?OpenDocument&Highlight=order8040.1c) states in Chapter 7, paragraph 9 (specifically subparagraph (3)) that the phrase “or later FAA-approved revision” when referring to the service information is not allowed. This phrase violates Office of the Federal Register policies for approving materials that are incorporated by reference. Service information that we incorporate by reference in an AD is often revised after we issue the AD. We can approve later revisions of service information as an alternative method of compliance.

We did not change the proposed AD action based on these comments.

Request Correct Deactivation Instructions for the A/C

Cessna requested we include revised procedures for deactivating the A/C in the AD.

Cessna stated that pulling the A/C circuit breaker does not disable the A/C compressor motor. The A/C can be deactivated by removal of a fuse limiter. Cessna provided specific deactivation instructions to include in the AD and requested we incorporate these instructions in the proposed AD.

We agree with Cessna's request because the instructions for deactivating the system were not correct in the NPRM (77 FR 50644, August 22, 2012).

We changed the proposed AD action based on these comments.

FAA's Determination

We are proposing this supplemental NPRM because we evaluated all the relevant information and determined the unsafe condition described previously is likely to exist or develop in other products of the same type design. Certain changes described above expand the scope of the original NPRM. As a result, we have determined that it is necessary to reopen the comment period to provide additional opportunity for the public to comment on this supplemental NPRM.

Proposed Requirements of the Supplemental NPRM

This supplemental NPRM would require inspection of the number of hours on the A/C compressor hour meter, inspection of the logbook, replacement of the brushes on certain P/N A/C compressor motors or deactivation of the A/C system until replacement of the brushes, and reporting of aircraft information related to the replacement of the brushes.

Costs of Compliance

We estimate that this proposed AD affects 408 airplanes of U.S. registry.

We estimate the following costs to comply with this proposed AD:

Estimated Costs
Action | Labor cost | Parts cost | Cost per product | Cost on U.S. operators
Inspect and replace brushes on the A/C motor | 11 work-hours × $85 per hour = $935 | $252 | $1,187 | $484,296
Return shipment of brushes to the manufacturer | $15 per return with two required returns | Not applicable | $30 | $12,240

Authority for This Rulemaking

Title 49 of the United States Code specifies the FAA's authority to issue rules on aviation safety. Subtitle I, section 106, describes the authority of the FAA Administrator. “Subtitle VII: Aviation Programs” describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Cessna Aircraft Company: Docket No. FAA-2012-0880; Directorate Identifier 2012-CE-004-AD.

(a) Comments Due Date

We must receive comments by January 22, 2013.

(b) Affected ADs

None.

(c) Applicability

This AD applies to Cessna Aircraft Company Model 525 airplanes, serial number (S/N) 525-0001 through 525-0558, and 525-0600 through 525-0701, that:

(1) Are equipped with part number (P/N) 1134104-1 or 1134104-5 air conditioning (A/C) compressor motor; and

(2) Are certificated in any category.

(d) Subject

Joint Aircraft System Component (JASC)/Air Transport Association (ATA) of America Code 21, Air Conditioning.

(e) Unsafe Condition

This AD was prompted by reports of smoke and/or fire in the tailcone caused by brushes wearing beyond their limits on the A/C motor. We are issuing this AD to require replacement of the brushes on certain P/N A/C compressor motors or deactivation of the A/C system until replacement of the brushes. This AD also requires reporting of aircraft information related to the replacement of the brushes.

(f) Compliance

Comply with this AD within the compliance times specified, unless already done.

(g) Inspections

Within the next 30 days after the effective date of this AD or within the next 10 hours time-in-service (TIS) after the effective date of this AD, whichever occurs first, do the following:

(1) Inspect the number of hours on the A/C compressor hour meter; and

(2) Check the aircraft logbook for any entry for replacing the A/C compressor motor brushes with new brushes or replacing the compressor motor or compressor condenser module assembly (pallet) with a motor or assembly that has new brushes.

(i) If the logbook contains an entry for replacement of parts as specified in the paragraph above, determine the number of hours on the A/C compressor motor brushes by comparing the number of hours on the compressor motor since replacement and use this number in paragraph (h) of this AD; or

(ii) If through the logbook check you cannot positively determine the number of hours on the A/C compressor motor brushes as specified in the paragraph above, you must use the number of hours on the A/C compressor hour meter to comply with the requirements of this AD and use this number in paragraph (h) of this AD or presume the brushes have over 500 hours TIS.

(h) Replacement

At whichever of the below compliance times occurs later, using the hour reading on the A/C compressor hour meter determined in paragraph (g) of this AD, replace the A/C compressor motor brushes with new brushes. Thereafter, repeat the replacement of the A/C compressor motor brushes no later than every 500 hours TIS on the A/C compressor motor. Do the replacement following Cessna Aircraft Company Model 525 Maintenance Manual, Revision 23, dated July 1, 2012.

(1) Before or when the A/C compressor motor brushes reach a total of 500 hours TIS; or

(2) Before further flight after the inspection required in paragraph (g)(2)(ii) of this AD if the A/C compressor motor brush hours cannot be positively determined.

(i) Deactivation

In lieu of replacing the A/C compressor motor brushes, before or when the A/C compressor motor brushes reach a total of 500 hours TIS, you may deactivate the A/C. Remove the fuse limiter that supplies power to the A/C compressor motor, fabricate and install a placard that states: “A/C DISABLED.” Install the placard by the A/C selection switch prohibiting use of the vapor cycle air conditioner and document deactivation of the system in the aircraft logbook referring to this AD as the reason for deactivation. While the system is deactivated, aircraft operators must remain aware of operating temperature limitations as detailed in the specific airplane flight manual.

(1) Do the following steps to remove the compressor fuse limiter.

(i) Open aft baggage compartment.

(ii) Remove aft baggage compartment dividers.

(iii) Disconnect the main battery connector from the battery.

(iv) Tag the battery and external power receptacle with a warning tag that reads: WARNING: Do not connect the battery connector or external power cart during the maintenance in progress.

(v) Remove wing nuts that attach the cover to the aft power J-Box.

(vi) Remove the aft power J-Box cover.

(vii) Remove nuts securing compressor fuse limiter (Reference Designator HZ028, P/N ANL100) to bus bar. Retain nuts.

(viii) Remove the compressor motor fuse limiter from the terminals and retain for future reinstallation once compressor motor brushes have been replaced.

(2) A properly certified mechanic must fabricate and install the placard as specified below:

(i) Use ⅛-inch black lettering on a white background; and

(ii) Install the placard on the instrument panel in close proximity to the A/C selection switch.

(3) Do the following steps to return the aircraft to service with the compressor motor fuse limiter removed.

(i) Install fuse limiter nuts on the terminals and torque to 100 inch-pounds +5 or −5 inch-pounds.

(ii) Install the aft power J-Box cover with the wing nuts.

(iii) Remove the warning tag on the battery and external power receptacle.

(iv) Connect battery connector to battery.

(v) Install aft baggage compartment dividers.

(j) Return of Replaced Parts and Reporting Requirement

For the first two A/C compressor motor brush replacement cycles on each aircraft, within 30 days after the replacement or within 30 days after the effective date of this AD, whichever occurs later, send the brushes that were removed to Cessna Aircraft Company, Cessna Service Parts and Programs, 7121 Southwest Boulevard, Wichita, KS 67215. Provide the following information with the brushes:

(1) The Model and S/N of the airplane;

(2) P/N of Motor;

(3) P/N of the brushes, if known;

(4) The elapsed amount of motor hours since the last brush/motor replacement, if known;

(5) If motor hours are unknown, report the elapsed airplane flight hours since the last brush/motor replacement and indicate that motor hours are unknown; and

(6) Number of motor hours currently displayed on the pallet hour meter.

(k) Special Flight Permit

Special flight permits are permitted with the following limitation: Operation of the A/C system is prohibited.

(l) Paperwork Reduction Act Burden Statement

A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(m) Alternative Methods of Compliance (AMOCs)

(1) The Manager, Wichita Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) Before using any approved AMOC, notify your appropriate principal inspector, or lacking a principal inspector, the manager of the local flight standards district office/certificate holding district office.

(n) Related Information

For more information about this AD, contact Christine Abraham, Aerospace Engineer, Wichita ACO, FAA, 1801 Airport Road, Room 100, Wichita, Kansas 67209; phone: (316) 946-4165; fax: (316) 946-4107; email: WICHITA-COS@FAA.GOV.

Issued in Kansas City, Missouri, on November 29, 2012.
Earl Lawrence,
Manager, Small Airplane Directorate, Aircraft Certification Service.

[FR Doc. 2012-29398 Filed 12-5-12; 8:45 am]

BILLING CODE 4910-13-P